SECURITIES AND EXCHANGE COMMISSION

[File No. 500-1]

In the Matter of Corestream Energy, Inc. (f/k/a Zealous, Inc.); Order of Suspension of Trading

March 31, 2011.

It appears to the Securities and Exchange Commission that there is a lack of current and accurate information concerning the securities of Corestream Energy, Inc. (“Corestream”) (f/k/a Zealous, Inc.) because it has failed to file certain periodic reports with the Commission and because of questions regarding the accuracy and adequacy of statements made by Corestream in press releases concerning, among other things, the acquisition of certain oil wells. Corestream is quoted on OTC Link (previously the Pink Sheets) operated by OTC Markets Group, Inc. under the ticker symbol “ZLUS.”

The Commission is of the opinion that the public interest and the protection of investors require a suspension of trading in the securities of the above-listed company.

Therefore, it is ordered, pursuant to Section 12(k) of the Securities Exchange Act of 1934, that trading in the securities of the above-listed company is suspended for the period from 9:30 a.m. EDT on March 31, 2011, through 11:59 p.m. EDT on April 13, 2011.

By the Commission.
Elizabeth M. Murphy,
Secretary.

[FR Doc. 2011-8038 Filed 3-31-11; 4:15 pm]

BILLING CODE 8011-01-P